DEPARTMENT OF COMMERCE

International Trade Administration

Renewable Energy and Energy Efficiency Advisory Committee

AGENCY: International Trade Administration, U.S. Department of Commerce.

ACTION: Notice of an open meeting.

SUMMARY: The Renewable Energy and Energy Efficiency Advisory Committee (RE&EEAC) will hold its inaugural meeting to provide an orientation of new committee members, discuss administrative procedures and future work products to fulfill the RE&EEAC's mandate.

DATES: December 7, 2010, from 9 a.m. to 3:30 p.m. Eastern Standard Time (EST).

ADDRESSES: The meeting will be held at the U.S. Department of Commerce, Room 4830, 1401 Constitution Avenue, NW., Washington, DC 20230.

FOR FURTHER INFORMATION CONTACT: Brian O'Hanlon, Office of Energy and Environmental Technologies Industries (OEEI), International Trade Administration, U.S. Department of Commerce at (202) 482-3492; e-mail: Brian.OHanlon@doc.gov. This meeting is physically accessible to people with disabilities. Requests for sign language interpretation or other auxiliary aids should be directed to OEEI at (202) 482-5225.

SUPPLEMENTARY INFORMATION: Background: The Secretary of Commerce established the RE&EEAC pursuant to his discretionary authority and in accordance with the Federal Advisory Committee Act (5 U.S.C. App.) on July 14, 2010. RE&EEAC is to provide the Secretary of Commerce with consensus advice from the private sector on the development and administration of programs and policies to expand the international competitiveness of the U.S. renewable energy and energy efficiency industries.

Topics to be considered: The agenda for the December 7, 2010, RE&EEAC meeting is as follows:

1. Welcome and introduction of members.

2. Orientation.

3. Discussion of RE&EEAC priority issues.

4. Public comment period.

Public Participation: The meeting is open to the public and the room is disabled-accessible. Public seating is limited and available on a first-come, first-served basis. Members of the public wishing to attend the meeting must notify Brian O'Hanlon at the contact information above by 5 p.m. EST on Thursday, December 2, in order to pre-register for clearance into the building. Please specify any requests for reasonable accommodation at least five business days in advance of the meeting. Last minute requests will be accepted, but may be impossible to fill. A limited amount of time, from 3 p.m.-3:30 p.m., will be available for pertinent brief oral comments from members of the public attending the meeting.

Any member of the public may submit pertinent written comments concerning the RE&EEAC's affairs at any time before or after the meeting. Comments may be submitted to the Renewable Energy and Energy Efficiency Advisory Committee, Office of Energy and Environmental Technologies Industries (OEEI), International Trade Administration, Room 4830, 1401 Constitution Avenue, NW., Washington, DC 20230. To be considered during the meeting, comments must be received no later than 5 p.m. EST on Thursday, December 2, 2010, to ensure transmission to the Committee prior to the meeting. Comments received after that date will be distributed to the members but may not be considered at the meeting.

Copies of RE&EEAC meeting minutes will be available within 30 days of the meeting.

Dated: November 10, 2010.
Edward A. O'Malley,
Director, Office of Energy and Environmental Industries.

[FR Doc. 2010-28878 Filed 11-16-10; 8:45 am]

BILLING CODE 3510-DR-P